FEDERAL COMMUNICATIONS COMMISSION

47 CFR Part 73

[DA 01-1539; MM Docket No. 01-141; RM-10146]

Radio Broadcasting Services; Las Vegas and Pecos, NM

AGENCY: Federal Communications Commission.

ACTION: Proposed rule.

SUMMARY: This document requests comments on a petition for rule making filed on behalf of Meadows Media, LLC, permittee of Station KTRL, Channel 275C2, Las Vegas, New Mexico, requesting the substitution of Channel 275C3 for Channel 275C2, and reallotment of the channel from Las Vegas to Pecos, New Mexico, as that community's second local and first competitive FM service, and modification of the authorization issued to Station KTRL accordingly. Additionally, Meadows Media, LLC requests the allotment of Channel 283C2 to Las Vegas, New Mexico. Channel 275C3 can be allotted to Pecos at a site located 15.5 kilometers (9.6 miles) southwest at coordinates 35-40-15 NL and 105-33-06 WL, to accommodate petitioner's desired transmitter site. Channel 283C2 can be allotted to Las Vegas at coordinates 35-35-57 NL and 105-12-12 WL, representing the currently authorized site of Station KTRL.

DATES: Comments must be filed on or before August 20, 2001, and reply comments on or before September 4, 2001.

ADDRESSES: Secretary, Federal Communications Commission, Washington, DC 20554. In addition to filing comments with the FCC, interested parties should serve the petitioner's counsel, as follows: Barry D. Wood and Paul H. Brown, Esqs., Wood, Maines & Brown, Chartered, 1827 Jefferson Place, NW., Washington, DC 20036.

FOR FURTHER INFORMATION CONTACT: Nancy Joyner, Mass Media Bureau, (202) 418-2180.

SUPPLEMENTARY INFORMATION: This is a synopsis of the Commission's Notice of Proposed Rule Making, MM Docket No. 01-141, adopted June 20, 2001, and released June 29, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. §§ 154, 303, 334 and 336.

§ 73.202 [Amended]

2. Section 73.202(b), the Table of FM Allotments under New Mexico, is amended by removing Channel 275C2 and adding Channel 283C2 at Las Vegas, and adding Channel 275C3 at Pecos.

Federal Communications Commission.
John A. Karousos,
Chief, Allocations Branch, Policy and Rules Division, Mass Media Bureau.

[FR Doc. 01-17197 Filed 7-9-01; 8:45 am]

BILLING CODE 6712-01-U